DEPARTMENT OF THE TREASURY

Advisory Committee on the Auditing Profession

AGENCY: Department of the Treasury, Departmental Offices.

ACTION: Notice of intent to establish; request for nominations.

SUMMARY: The Department of the Treasury (the “Department”) intends to establish the Advisory Committee on the Auditing Profession (the “Committee”) to assist the Department in evaluating the sustainability of a strong and vibrant auditing profession. The Department is seeking nominations of individuals to be considered for selection as Committee members, and names of professional and public interest groups that should be represented on the Committee.

DATES: Nominations must be received on or before July 11, 2007.

ADDRESSES: Nominations should be sent to ACAPmembership@do.treas.gov or Advisory Committee on the Auditing Profession Membership, Office of Financial Institutions Policy, Department of the Treasury, Main Treasury Building, Room 1418, 1500 Pennsylvania Avenue, NW., Washington, DC 20220.

FOR FURTHER INFORMATION CONTACT: Gerry Hughes, Financial Analyst, or Timothy M. Hunt, Financial Analyst, Office of Financial Institutions Policy, Department of the Treasury, 1500 Pennsylvania Avenue, NW., Washington, DC 20220, (202) 927-6618 (not a toll-free number).

SUPPLEMENTARY INFORMATION: In accordance with the requirements of the Federal Advisory Committee Act, 5 U.S.C. App. II, the Department is publishing this notice that the Department intends to establish the Committee. The Committee's objective will be to provide informed advice and recommendations to the Department on the sustainability of a strong and vibrant public company auditing profession. The Committee's charter is expected to direct it to consider, among other things, the auditing profession's ability to attract and retain the human capital necessary to meet developments in the business and financial reporting environment; audit market competition and concentration; and the financial resources of the auditing profession, including the effect of existing limitations on auditing firms' structure. A resilient and quality public company auditing profession is essential to the strength of the nation's capital markets. Auditors oversee the integrity of financial reporting and disclosure, critical to investor confidence and market efficiency. Because of the importance of the auditing profession to the prosperity and stability of the capital markets in the United States and the rest of the world, the Departmentaffirms that the Committee is necessary and in the public interest.

The Committee will be directed to conduct its work with a view to furthering the mission of the Department, as the steward of the economic and financial systems of the United States, to promote and encourage the conditions for prosperity and stability in the United States and the rest of the world and to predict and prevent, to the extent possible, economic and financial crises. The charter will provide that the Committee's duties are solely advisory and only extend to the submission of advice or recommendations to the Department. The Committee is expected to meet at such intervals as necessary to carry out its duties. The charter is expected to provide that the full Committee will meet no more than eight times. Meetings of subgroups of the full Committee may occur more frequently.

To achieve the Committee's objective, the Department will assure that the Committee reflects balanced membership and includes a cross-section of between 15 and 21 members representing the views of non-government entities or groups having an interest in the auditing profession, such as auditors, investors, public companies, and other financial market participants. In order to select Committee members who represent the greatest range of interest in the auditing profession, the Department is soliciting suggestions for potential Committee members from a variety of sources, including, but not limited to, professional and public interest groups. Nominations should describe and document the proposed member's qualifications for Committee membership. In addition to individual nominations, the Department is soliciting the names of professional and public interest groups that should have representative members participating on the Committee. Committee members will not receive compensation, but they will be reimbursed for travel expenses consistent with governing Federal law and regulations.

Dated: June 8, 2007
Taiya Smith,
Executive Secretary.

[FR Doc. E7-11700 Filed 6-15-07; 8:45 am]

BILLING CODE 4811-42-P